DEPARTMENT OF HEALTH AND HUMAN SERVICES

National Institutes of Health

Office of the Secretary; Notice of Meetings

Pursuant to section 10(a) of the Federal Advisory Committee Act, as amended, notice is hereby given of meetings of the Task Force on Research Specific to Pregnant Women and Lactating Women.

The meetings will be open to the public, with attendance limited to space available. Individuals who plan to attend and need special assistance, such as sign language interpretation or other reasonable accommodations, should notify the Contact Person listed below in advance of the meeting.

Name of Committee: Task Force on Research Specific to Pregnant Women and Lactating Women.

Date: May 14-15, 2018.

Time: May 14, 2018 8:30 a.m. to 5:00 p.m., May 15, 2018 8:00 a.m. to 2:30 p.m.

Agenda: The Task Force is charged with providing advice and guidance to the Secretary of HHS, regarding Federal activities related to identifying and addressing gaps in knowledge and research regarding safe and effective therapies for pregnant women and lactating women, including the development of such therapies and the collaboration on and coordination of such activities.

Place: 6710B Rockledge Drive, Room 1425/1427 (1st Floor), Bethesda, MD 20817.

Contact Person: Ms. Lisa Kaeser, Executive Secretary, Eunice Kennedy Shriver National Institute of Child Health and Human Development, 31 Center Drive, Room 2A03, MSC 2425, Bethesda, MD 20892, (301) 496-0536, kaeserl@mail.nih.gov.

Public comments are welcome either by filing written comments and/or providing oral comments at the meeting. Oral comments from the public will be scheduled on May 14, 2018, from approximately 10:00 a.m.-10:45 a.m. Any member of the public interested in presenting oral comments on May 14, 2018, should submit a letter of intent, a brief description of the organization represented, and the oral presentation to Ms. Lisa Kaeser (Kaeserl@mail.nih.gov) by 5:00 p.m. on Monday, May 7, 2018. Written comments to be included at the meeting should also be sent to Lisa Kaeser by 5:00 p.m. on Monday, May 7, 2018.

The submitted presentations and any written comments will be formatted to be posted on the PRGLAC website for the record. Only one representative of an organization may be allowed to present oral comments. Presentations will be limited to three to five minutes per speaker depending on the number of speakers to be accommodated within the allotted time. Speakers will be assigned a time to speak in the order of the date and time when their request to speak is received. Both printed and electronic copies are requested for the record.

Details and additional information about these meetings can be found at the NICHD website for the Task Force on Research Specific to Pregnant Women and Lactating Women (PRGLAC) https://www.nichd.nih.gov/about/advisory/PRGLAC/Pages/index.aspx.

Dated: April 11, 2018.
Michelle D. Trout,
Analyst, Office of Federal Advisory Committee Policy.

[FR Doc. 2018-07918 Filed 4-16-18; 8:45 am]

BILLING CODE 4140-01-P